DEPARTMENT OF TRANSPORTATION

Federal Aviation Administration

First Meeting, Special Committee 214: Data Communications—Next Generation Air Transportation System (NextGen) & Single European Sky ATM Research Initiatives

AGENCY: Federal Aviation Administration (FAA), DOT.

ACTION: Notice of RTCA Special Committee 214, Data Communications—Next Generation Air Transportation System (NextGen) & Single European Sky ATM Research Initiatives.

SUMMARY: The FAA is issuing this notice to advise the public of a first meeting of RTCA Special Committee 214, Data Communication—Next Generation Air Transportation System (NextGen) & Single European Sky ATM Research Initiatives.

DATES: The meeting will be held June 5-7, 2007 from 9 a.m.-5 p.m.

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org for directions.

SUPPLEMENTARY INFORMATION: Pursuant to section 10(a)(2) of the Federal Advisory Committee Act (P.L. 92-463, 5 U.S.C., Appendix 2), notice is hereby given for a Special Committee 214 meeting. The agenda will include:

• June 5-7:

• Opening Plenary Session (Welcome, Introductions, and Administrative Remarks, Agenda Review).

• RTCA Functional Overview.

• ATO Data Communications Program—Overview.

• European Data Communications Initiatives—Overview.

• Committee Scope—Terms of Reference.

• Presentation, Discussion, Recommendations.

• Organization of Work, Assign Tasks and Workgroup.

• Presentation, Discussion, Recommendations.

• Assignment of Responsibilities.

• Review first draft of OSED product for e.g. Departure Clearance with Revisions, Data Link Task.

• Closing Plenary Session (Establish Dates, Location and Agenda for Next Meeting, Other Business, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 27, 2007.
Francisco Estrada C.,
RTCA Advisory Committee.

[FR Doc. 07-2271 Filed 5-8-07; 8:45 am]

BILLING CODE 4910-13-M